DEPARTMENT OF LABOR

Employment and Training Administration

[TA-W-41,186]

Swanson Erie Corporation, Assembly Systems, Erie, PA; Notice of Negative Determination Regarding Application for Reconsideration

By application of July 22, 2002, the Automobile, Aerospace & Agricultural Implementation Workers of America, International Union, United (UAW), Local 618 requested administrative reconsideration of the Department's negative determination regarding eligibility for workers and former workers of the subject firm to apply for Trade Adjustment Assistance (TAA). The denial notice was signed on June 25, 2002, and published in the Federal Register on July 9, 2002 (67 FR 45550).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Swanson Erie Corporation, Assembly Systems, Erie, Pennsylvania engaged in the production of assembly of machines, was denied because the “contributed importantly” group eligibility requirement of section 222(3) of the Trade Act of 1974, as amended, was not met. Increased imports did not contribute importantly to worker separations at the subject plant. The workers assembled various assembly machines (i.e. 35mm disposable cameras, bare skin cutting machines, AA-rebuilding machines and acuvan catheter machines).

The petitioner alleges that the company increased their imports of articles like or directly competitive with articles produced by the subject firm thus contributing importantly to the separations at the subject firm. The petitioner in order to depict increased imports, attached a parts list of the imported parts (by part number), including the total value of each of the parts imported during 2000, 2001, and January through February 12, 2002.

The company was contacted to verify the import data provided by the petitioner. The company responded by indicating the products imported were cams, a component part of the machinery assembled by the subject firm. The company further indicated that they produced this product in-house (in combination of purchasing cams from other domestic sources) to mid-1997. In mid-1997, the company ceased their production of cams and began relying solely on imported cams from a foreign source through the current period. The imports of cams by the company are not like or directly competitive with articles currently being produced by the subject firm during the relevant period.

Conclusion

After review of the application and investigative findings, I conclude that there has been no error or misinterpretation of the law or of the facts which would justify reconsideration of the Department of Labor's prior decisions. Accordingly, the application is denied.

Signed in Washington, DC, this 22nd day of October, 2002.
Edward A. Tomchick,
Director, Division of Trade Adjustment Assistance.

[FR Doc. 02-29635 Filed 11-20-02; 8:45 am]

BILLING CODE 4510-30-P